DEPARTMENT OF TRANSPORTATION

Surface Transportation Board

[STB Finance Docket No. 34443]

Timber Rock Railroad, Inc.—Lease Exemption—The Burlington Northern and Santa Fe Railway Company

Timber Rock Railroad, Inc. (TRRR), a Class III rail carrier, has filed a verified notice of exemption under 49 CFR 1150.41 to lease from The Burlington Northern and Santa Fe Railway Company (BNSF) 29.2 miles of rail line located between milepost 51.0 near Kirbyville, TX, and milepost 21.8, near Silsbee, TX. TRRR will also acquire 0.8 miles of incidental overhead trackage rights over BNSF's rail line between milepost 21.8 and milepost 21.0 near Silsbee, for the purpose of interchanging traffic with BNSF. TRRR will be the operator of the property.¹

¹ BNSF will retain the right to operate certain overhead trains over the line being leased to TRRR.

TRRR certifies that its projected revenues as a result of this transaction will not result in its becoming a Class II or Class I rail carrier, and further certifies that its projected annual revenues will not exceed $5 million.

The transaction was scheduled to be consummated on or shortly after February 16, 2004.

If the notice contains false or misleading information, the exemption is void ab initio. Petitions to revoke the exemption under 49 U.S.C. 10502(d) may be filed at any time. The filing of a petition to revoke does not automatically stay the transaction.

An original and 10 copies of all pleadings, referring to STB Finance Docket No. 34443, must be filed with the Surface Transportation Board, 1925 K Street, NW., Washington, DC 20423-0001. In addition, a copy of each pleading must be served on Karl Morell, Ball Janik LLP, Suite 225, 1455 F Street, NW., Washington, DC 20005.

Board decisions and notices are available on our Web site at “www.stb.dot.gov”.

Decided: February 25, 2004.
By the Board, David M. Konschnik, Director, Office of Proceedings.
Vernon A. Williams,
Secretary.

[FR Doc. 04-4591 Filed 3-2-04; 8:45 am]

BILLING CODE 4915-01-P